CONSUMER PRODUCT SAFETY COMMISSION

Proposed Extension of Approval of Information Collection; Comment Request—Baby Bouncers and Walker-Jumpers

AGENCY: Consumer Product Safety Commission.

ACTION: Notice; correction.

SUMMARY: As required by the Paperwork Reduction Act of 1995 (44 U.S.C. Chapter 35), the Consumer Product Safety Commission (CPSC) requested comments on a proposed extension of approval, for a period of 3 years from the date of approval by the Office of Management and Budget (OMB), of information collection requirements for manufacturers and importers of children's articles known as baby-bouncers and walker-jumpers. This document was published in the Federal Register of June 20, 2012, and contains an incorrect docket number.

FOR FURTHER INFORMATION CONTACT: Mary James, Office of Information Technology and Technology Services, Consumer Product Safety Commission, 4330 East West Highway, Bethesda, MD 20814; telephone: (301) 504-7213 or by email to: mjames@cpsc.gov.

Correction

In the Federal Register of June 20, 2012, in FR Doc. 2012-14950, on page 37000, in the second column, correct the first sentence of the ADDRESSES section to read:

“You may submit comments, identified by Docket No. CPSC-2012-0038, by any of the following methods:”

Dated: August 1, 2012.
Todd A. Stevenson,
Secretary, Consumer Product Safety Commission.

[FR Doc. 2012-19108 Filed 8-3-12; 8:45 am]

BILLING CODE 6355-01-P